DEPARTMENT OF THE INTERIOR

Fish and Wildlife Service

Notice of Availability; Draft Environmental Impact Statement on Light Goose Management; Extension of Comment Period

AGENCY: Fish and Wildlife Service, Interior.

ACTION: Notice of availability for public comment; extension of comment period.

SUMMARY: The U.S. Fish and Wildlife Service (Service) is extending the comment period on a Draft Environmental Impact Statement (DEIS) which is available for public review. The DEIS analyzes the potential environmental impacts of several management alternatives for addressing problems associated with overabundant light goose populations. The Service invites the public to comment on the DEIS.

DATES: Written comments on the DEIS must be received on or before January 25, 2002.

ADDRESSES: Requests for copies of the DEIS should be mailed to Chief, Division of Migratory Bird Management, U.S. Fish and Wildlife Service, Department of the Interior, ms 634— ARLSQ, 1849 C Street NW., Washington, D.C. 20240. Copies of the DEIS can be downloaded from the Division of Migratory Bird Management web site at http://migratorybirds.fws.gov/issues/snowgse/tblcont.html. Comments on the DEIS should be sent to the above address. Alternatively, comments may be submitted electronically to the following address: white_goose_eis@fws.gov.

FOR FURTHER INFORMATION CONTACT: Jon Andrew, Chief, Division of Migratory Bird Management, (703) 358-1714.

SUPPLEMENTARY INFORMATION: On September 28, 2001 (66 FR 49668), and October 5, 2001 (66 FR 51274), notices were published in the Federal Register announcing the availability of our DEIS on light goose management. On October 12, 2001 (66 FR 52147) we published a notice in the Federal Register to announce the schedule of public hearings to invite further public participation in the DEIS review process.

The DEIS evaluates four management alternatives to address habitat destruction and agricultural depredations caused by light geese on various breeding, migration, and wintering areas: (1) No Action or a continuation to manage light goose populations through existing wildlife management policies and practices (Alternative A); (2) modify harvest regulation options and refuge management (Alternative B) (PREFERRED); (3) implement direct agency control of light goose populations on migration and wintering areas in the U.S. (Alternative C); (4) seek direct light goose population control on breeding grounds in Canada (Alternative D). Our preferred alternative (Alternative B) modifies existing light goose hunting regulations to expand methods of take during normal hunting season frameworks. In addition, we propose to create a conservation order to allow take of light geese outside of normal hunting season frameworks. We would also modify management practices on certain National Wildlife Refuges to alter the availability of food and sanctuary to light geese. On October 12, 2001 (66 FR 52077) we published a proposed rule in the Federal Register that would implement our preferred alternative.

We have received a request to extend the comment period on the DEIS. The Service invites careful consideration by all parties, and welcomes serious scrutiny from those committed to the long-term conservation of migratory birds. Therefore, to facilitate substantive public review, we are extending the comment period from December 14, 2001, to January 25, 2002. Extension of the comment period on the proposed rule is made through a separate notice in the Federal Register.

In order to be considered, electronic submission of comments must include your name and postal mailing address; we will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

Dated: November 19, 2001.
Kevin R. Adams,
Acting Deputy Director.

[FR Doc. 01-30412 Filed 12-7-01; 8:45 am]

BILLING CODE 4310-55-P